DEPARTMENT OF HOMELAND SECURITY

Federal Emergency Management Agency

[Docket ID: FEMA- 2021-0013; OMB No. 1660-0002]

Agency Information Collection Activities: Submission for OMB Review; Comment Request; Disaster Assistance Registration

AGENCY: Federal Emergency Management Agency, Department of Homeland Security.

ACTION: 30 Day notice of renewal and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before August 23, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, email address FEMA-Information-Collections-Management@fema.dhs.gov or Brian Thompson, Supervisory Program Specialist, FEMA, Recovery Directorate, 540-686-3602.

SUPPLEMENTARY INFORMATION: This proposed information collection previously published in the Federal Register on April 12, 2021, at 86 FR 19001 with a 60 day public comment period. No comments were received. The purpose of this notice is to notify the public that FEMA will submit the information collection abstracted below to the Office of Management and Budget for review and clearance.

Collection of Information

Title: Disaster Assistance Registration.

Type of information collection: Extension, without change, of a currently approved information collection.

OMB Number: 1660-0002.

Form Titles and Numbers: FF-104-FY-21-123 (formerly FEMA Form 009-0-1T (English)), Tele-Registration, Disaster Assistance Registration; FF-104-FY-21-1123-A (formerly FEMA Form 009-0-1T (Spanish)), Tele-Registration, Registro Para Asistencia De Desatre; FF-104-FY-21-123-COVID-FA (formerly FEMA Form 009-0-1T-COVID-FA (English)), Tele-Registration, COVID-19 Funeral Assistance; FF-104-FY-21-125 (formerly FEMA Form 009-0-1Int (English)), Internet, Disaster Assistance Registration; FF-104-FY-21-125-A (formerly FEMA Form 009-0-2Int (Spanish)), Internet, Registro Para Asistencia De Desastre; FF-104-FY-21-122 (formerly FEMA Form 009-0-1 (English)), Paper Application/Disaster Assistance Registration; FF-104-FY-21-122-A (formerly FEMA Form 009-0-2 (Spanish)), Solicitud en Papel/Registro Para Asistencia De Desastre; FF-104-FY-21-128 (formerly FEMA Form 009-0-3 (English)), Declaration and Release; FF-104-FY-21-128-A (formerly FEMA Form 009-0-4 (Spanish)), Declaración Y Autorización; FF-104-FY-21-127 (formerly FEMA Form 009-0-5 (English)), Manufactured Housing Unit Revocable License and Receipt for Government Property; FF-104-FY-21-127-A (formerly FEMA Form 009-0-6 (Spanish)), Las Casas Manufacturadas Unidad Licencia Revocable y Recibo de la Propiedad del Gobierno; Request for Information (RFI).

Abstract: The forms in this collection are used to obtain pertinent information to provide financial assistance, and if necessary, direct assistance to eligible individuals and households who, as a direct result of a disaster or emergency, have uninsured or under-insured, necessary or serious expenses they are unable to meet. This extension, without change, will also support the continued ability to provide COVID-19 Funeral Assistance to individuals who responsible for a deceased individual's funeral expenses.

Affected Public: Individuals or Households.

Estimated Number of Respondents: 2,004,488.

Estimated Number of Responses: 2,004,488.

Estimated Total Annual Burden Hours: 622,707.

Estimated Total Annual Respondent Cost: $24,441,251.

Estimated Respondents' Operation and Maintenance Costs: $0.

Estimated Respondents' Capital and Start-Up Costs: $0.

Estimated Total Annual Cost to the Federal Government: $203,187,715.

Comments

Comments may be submitted as indicated in the ADDRESS caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Senior Manager, Records Management Branch, Office of the Chief Administrative Officer, Mission Support, Federal Emergency Management Agency, Department of Homeland Security.

[FR Doc. 2021-15610 Filed 7-21-21; 8:45 am]

BILLING CODE 9111-23-P